NATIONAL ARCHIVES AND RECORDS ADMINISTRATION

36 CFR Parts 1220, 1222, 1223, 1224, 1225, 1226, 1227, 1228, 1229, 1230, 1231, 1232, 1233, 1234, 1235, 1236, 1237, 1238, 1240, 1242, 1244, and 1246

RIN 3095-AB16

Federal Records Management; Proposed Regulatory Framework

AGENCY: National Archives and Records Administration (NARA).

ACTION: Advance notice of proposed rulemaking; request for comments.

SUMMARY: NARA is seeking comments from Federal agencies and the public on our regulations for Federal records management. We are considering revising and reorganizing the existing regulations to make the regulations easier to read, understand, and use. A proposed table of contents for the revision, which includes parenthetical references to the current configuration of the regulations, is also provided for review and comment.

Dates: Submit comments on or before May 14, 2004.

ADDRESSES: NARA invites interested persons to submit comments on this ANPRM. Please include “Attn: 3095-AB16” and your name and mailing address in your comments. Comments may be submitted by any of the following methods:

• E-Mail: Send comments to comments@nara.gov. If you do not receive a confirmation that we have received your e-mail message, contact Cheryl Stadel-Bevans at 301-837-3021.

• Fax: Submit comments by facsimile transmission to 301-837-0319.

• Mail: Send comments to Regulations Comments Desk (NPOL), Room 4100, Policy and Communications Staff, National Archives and Records Administration, 8601 Adelphi Road, College Park, MD 20740-6001.

• Hand Delivery or Courier: Deliver comments to 8601 Adelphi Road, College Park, MD.

• Federal eRulemaking Portal: Go to http://www.regulations.gov. Follow the online instructions for submitting comments.

For further information contact: Cheryl Stadel-Bevans at telephone number 301-837-3021 or fax number 301-837-0319.

Supplementary Information:

Background

NARA is concerned that the current Federal records management regulations do not reflect many of the recent changes in records management and, therefore, need updating to meet the challenges of a changing recordkeeping environment. We are considering revising the existing regulations to incorporate current standards and practices, such as new guidance on electronic recordkeeping and relevant portions of ISO 15489-1:2001, Records management—Part 1: General (ISO Records Management Standard).

In addition, we propose to restructure the regulations to better reflect the lifecycle of records, from creation through active agency use to disposition. We are considering consolidating all definitions under 36 CFR 1220; reorganizing the Parts of 36 CFR Chapter XII, Subchapter B, to more clearly reflect the lifecycle of records; and elevating subparts in the current 36 CFR 1228 to parts, for better emphasis. The regulations would also be re-written in accordance with plain language principles (such as using the question-style for the section headings) to make them easier to read, understand, and use.

Our goal is to make it easier for Federal agencies and records management contractors to follow our regulations. As part of the revision, we also intend to address the issues raised in the advance notice of proposed rulemaking, Records Management; Electronic Text Documents (RIN 3095-AB05) that was published October 10, 2001 (66 FR 51740).

More information about NARA's Redesign of Federal Records Management may be found online at http://www.archives.gov/records_management/initiatives/rm_redesign_project.html.

Questions for Comment

What do you think about this proposal? Do you agree that the current Federal records management regulations need revision? Which regulations do you think need updating, revision, or expansion? Are there other records management issues that NARA should address? If you think the NARA regulations need to be revised, are there any priority areas that should be addressed first? Will the proposed reorganization of 36 CFR chapter XII, subchapter B, make the regulations easier to use? Will consolidating definitions in one section be useful? How do you see the proposed revision affecting the records management programs of Federal agencies? Please specify what further changes you would like to see.

Dated: March 2, 2004.
Lewis J. Bellardo,
Deputy Archivist of the United States.

The following table of contents is a proposed outline for reorganizing the regulations for Federal records management and includes parenthetical references to the current configuration of the regulations. We attempted to lay out the regulations in a more serviceable order from the current structure. Please review and comment on the outline.

Sec.
PART 1220—FEDERAL RECORDS, GENERAL
1220.1 Scope of subchapter. [1220.1]
1220.2 Responsibility for records management programs. [1220.2]
Subpart A—General Provisions
1220.10 Authority. [1220.10]
1220.12 Applicability. [1220.12]
1220.14 Definitions. (all definitions in current CFR—add definition for trustworthy (see old 1234.26), authenticity, reliability, integrity (see old 1234.26(b)), usability, risk, and definitions from other sources as appropriate) [1220.14, 1222.12, 1228.226, 1230.4, 1232.10, 1234.2, 1236.14]
Subpart B—Agency Records Management Programs
1220.30 Authority. [1220.30]
1220.32 Program content. [1220.32]
(a) Cooperation with NARA. [1220.32(a)]
(b) Agency internal evaluation. [1220.42]
(c) Compliance. [1220.32(b)]
1220.34 Creation of records. [1220.34]
1220.36 Maintenance and use of records. [1220.36]
1220.38 Disposition of records. [1220.38]
1220.40 Liaison offices. [1220.40]
PART 1222—CREATION AND MAINTENANCE OF FEDERAL RECORDS
Subpart A—General
Sec.
1222.10 Authority. [1222.10]
1222.12 Understanding what a Federal record is. [1222.12]
Subpart B—Program Requirements
1222.20 Agency responsibilities. [1222.20]
Subpart C—Agency Recordkeeping Requirements
1222.30 Purpose. [1222.30]
1222.32 General requirements. [1222.32]
1222.34 Identifying Federal records. [1222.34]
1222.36 Identifying personal papers. [1222.36]
1222.38 Recordkeeping requirements.
(a) Categories of documentary materials. [1222.38]
(b) Levels of recordkeeping requirements. [New]
(1) Agency.
(2) Program.
(3) Series/system.
1222.40 Preventing the unauthorized removal of records. [1222.40]
1222.42 Authorizing the removal of nonrecord material. [1222.42]
1222.44 Records management directives. [1222.44]
1222.46 Recordkeeping requirements of other agencies. [1222.46]
1222.48 Contractor records. [1222.48]
1222.50 Records maintenance and storage. [1222.50]
PART 1223—MANAGEMENT OF VITAL RECORDS
Subpart A—General
Sec.
1223.10 Purpose. [1236.10]
1223.12 Authority. [1236.12]
Subpart B—Vital Records
1223.20 Program objectives. [1236.20]
1223.22 Identification. [1236.22]
1223.24 Use of vital records. [1236.24]
1223.26 Protection of vital records. [1236.26]
1223.28 Disposition of vital records. [1236.28]
PART 1224—DISPOSITION OF FEDERAL RECORDS—GENERAL

Sec.
1224.1 Scope. [New—refer to 44 U.S.C. 3301 and 36 CFR 1222.12 (old) and 1222.34 (old)]
1224.10 Authority. [1228.10]
1224.12 Program elements. [1228.12]
PART 1225—SCHEDULING RECORDS

Sec.
1225.10 Authority. [1228.20]
1225.12 Developing records schedules. [1228.22]
1225.14 Formulation of agency records schedules. [1228.24]
1225.16 Request for records disposition authority. [1228.26]
1225.18 Scheduling permanent records. [1228.28]
1225.20 Scheduling of temporary records. [1228.30]
1225.22 Request to change disposition authority. [1228.32]
PART 1226—IMPLEMENTING SCHEDULES

Sec.
1226.10 Application of schedules. [1228.50]
1226.12 Withdrawal of disposal authority. [1228.52]
1226.14 Temporary extension of retention periods. [1228.54]
1226.16 Transfer of permanent records. [1228.56]
1226.18 Destruction of temporary records. [1228.58]
1226.20 Donation of temporary records. [1228.60]
PART 1227—GENERAL RECORDS SCHEDULES

Sec.
1227.10 Authority. [1228.40]
1227.12 Applicability. [1228.42]
1227.14 Availability. [1228.46]
PART 1228—LOAN OF PERMANENT AND UNSCHEDULED RECORDS

Sec.
1228.10 Authority. [1228.70]
1228.12 Approval. [1228.72]
1228.14 Agency action. [1228.74]
1228.16 NARA action on request. [1228.76]
1228.18 Retrieval of records. [1228.78]
PART 1229—EMERGENCY AUTHORIZATION TO DESTROY RECORDS

Sec.
1229.10 General provisions. [1228.90]
1229.12 Menaces to human life or health or to property. [1228.92]
1229.14 State of war or threatened war. [1228.94]
PART 1230—DAMAGE TO, ALIENATION, AND UNAUTHORIZED DESTRUCTION OF RECORDS

Sec.
1230.10 Responsibilities. [1228.100]
1230.12 Criminal penalties. [1228.102]
1230.14 Reporting. [1228.104]
1230.16 Exclusions. [1228.106]
PART 1231—TRANSFER OF RECORDS FROM THE CUSTODY OF ONE EXECUTIVE AGENCY TO ANOTHER

Sec.
1231.10 Authority. [1228.120]
1231.12 Approval. [1228.122]
1231.14 Agency request. [1228.124]
1231.16 Agency concurrences. [1228.126]
1231.18 Records of terminated agencies. [1228.128]
1231.20 Equipment. [1228.130]
1231.22 Costs of transfers. [1228.132]
1231.24 Restrictions on use of records. [1228.134]
1231.26 Exceptions. [1228.136]
PART 1232—TRANSFER OF RECORDS TO RECORDS STORAGE FACILITIES

Sec.
1232.10 Where can a Federal agency transfer records for storage? [1228.150]
1232.12 Under what conditions may Federal records be stored in records storage facilities? [1228.152]
1232.14 What requirements must an agency meet when it transfers records to a records storage facility? [1228.154]
1232.16 What procedures must an agency follow to transfer records to an agency records center or commercial records storage facility? [1228.156]
PART 1233—TRANSFER, USE, AND DISPOSITION OF RECORDS IN A NARA RECORDS CENTER

Sec.
1233.10 How does an agency transfer records to a NARA records center? [1228.160]
1233.12 How does an agency transfer vital records to a NARA records center? [1228.162]
1233.14 What records must be transferred to the National Personnel Records Center (NPRC)? [1228.164]
1233.16 How does an agency transfer records to the National Personnel Records Center (NPRC)? [1228.166]
1233.18 How can records be used in NARA records centers? [1228.168]
1233.20 How are disposal clearances managed for records in NARA records centers? [1228.170]
1233.22 Transfer to and storage of electronic records in NARA records centers [New]
PART 1234—FACILITY STANDARDS FOR RECORDS STORAGE FACILITIES
Subpart A—General
Sec.
1234.10 What authority applies to this subpart? [1228.220]
1234.12 What does this subpart cover? [1228.222]
1234.14 Publications incorporated by reference. [1228.224]
Subpart B—Facility Standards
1234.20 What are the facility requirements for all records storage facilities? [1228.228]
1234.22 What are the fire safety requirements that apply to records storage facilities? [1228.230]
1234.24 What are the requirements for environmental controls for records storage facilities? [1228.232]
Subpart C—Handling Deviations From NARA's Facility Standards
1234.30 What rules apply if there is a conflict between NARA standards and other regulatory standards that a facility must follow? [1228.234]
1234.32 How does an agency request a waiver from a requirement in this subpart? [1228.236]
1234.34 How does NARA process a waiver request? [1228.238]
Subpart D—Facility Approval and Inspection Requirements
1234.40 How does an agency request authority to establish or relocate records storage facilities? [1228.240]
1234.42 What does an agency have to do to certify a fire-safety detection and suppression system? [1228.242]
1234.44 When may NARA conduct an inspection of a records storage facility? [1228.244]
Appendix A—Minimum Security Standards for Level III Federal Facilities [1228 Appendix A]
Appendix B—Alternative Certified Fire-safety Detection and Suppression System(s) [1228 Appendix B]

PART 1235—TRANSFER OF RECORDS TO THE NATIONAL ARCHIVES OF THE UNITED STATES

Sec.
1235.10 Authority. [1228.260]
1235.12 Types of records to be transferred. [1228.262]
1235.14 Certification for retention of records in agency custody. [1228.264]
1235.16 Audiovisual records. [1228.266]
1235.18 Cartographic and architectural records. [1228.268]
1235.20 Electronic records (including new transfer guidance). [1228.270]
1235.22 Transfer of records. [1228.272]
1235.24 Restrictions on transferred records. [1228.274]
1235.26 Records subject to the Privacy Act of 1974. [1228.276]
1235.28 Release of equipment. [1228.278]
1235.30 Use of records transferred to the National Archives. [1228.280]
1235.32 Disposal clearances. [1228.282]
PART 1236—ELECTRONIC RECORDS MANAGEMENT
Subpart A—General
Sec.
1236.1 Scope of part. [1234.1]
Subpart B—Program Requirements
1236.10 Agency responsibilities. [1234.10 and ISO 15489-1:7.2, Characteristics of a record]
Subpart C—Standards for Design and Implementation of an Electronic Records System [ISO 15489-1:8]
1236.12 General. (ISO 15489-1:8.1)
1236.14 Records systems characteristics. (ISO 15489-1:8.2)
1236.16 Designing and implementing electronic records systems. (ISO 15489-1:8.3)
1236.18 Design and implementation methodology. (ISO 15489-1:8.4)
1236.20 Discontinuing records systems. (ISO 15489-1:8.5)
1236.22 Determining documents to be captured into a records system. (ISO 15489-1:9.1)
1236.24 Standards for managing electronic mail records. [1234.24]
(a) Identifying and preserving. [1234.24(a)]
(b) Recordkeeping systems. [1234.24(b)]
(c) Copying. [1234.24(c)]
(d) Print and file. [1234.24(d)]
1236.26 Standards for managing data files. [1234.20]
1236.28 Standards for managing text files. [1234.22]
1236.30 Standards for managing PDF files. [New]
1236.32 Standards for managing scanned images. [New]
1236.34 Standards for managing digital photography. [New]
1236.36 Reserved for New Formats
1236.38 Reserved for New Formats
1236.40 Reserved for New Formats
1236.42 Reserved for New Formats
1236.44 Selection and maintenance of media. [1234.30]
1236.46 Judicial use of electronic records. [1234.26]
1236.48 Security use of electronic records. [1234.28]
Subpart E—Disposition of Electronic Records
1236.50 Determining how long to retain records. (ISO 15489-1:9.2)
1236.52 Retention and disposition of electronic records.
(a) Scheduling. [1234.32(a)]
(b) Records authorized for disposal in certain parts of the GRS are also authorized for disposal if they are in an electronic format. [New]
(c) Establishing. [1234.32(c)]
(d) Electronic mail. [1234.32(d)]
(e) Transferring. [1234.32(b)]
1236.54 Destruction of electronic records. [1234.34]
PART 1237—AUDIOVISUAL RECORDS MANAGEMENT
Subpart A—General
Sec.
1237.1 Applicability and scope. [1232.1]
1237.2 Objectives. [1232.2]
Subpart B—Audiovisual Records Management
1237.20 Agency program responsibilities. [1232.20]
1237.22 Nitrocellulose film. [1232.22]
1237.24 Unstable cellulose-acetate film. [1232.24]
1237.26 Storage conditions. [1232.26]
1237.28 Maintenance and operations. [1232.28]
1237.30 Choosing formats. [1232.30]
1237.32 Disposition. [1232.32]
PART 1238—CARTOGRAPHIC, ARCHITECTURAL, AND AERIAL FILM MANAGEMENT
Subpart A—General
Sec.
1238.1 Applicability and scope. [New]
1238.2 Objectives. [New]
Subpart B—Cartographic, Architectural, and Aerial Film Management
1238.20 Agency program responsibilities. [New]
1238.22 Storage conditions. [New]
1238.24 Maintenance and operations. [New]
1238.26 Choosing formats. [New]
1238.28 Disposition. [New]
PART 1240—MICROGRAPHIC RECORDS MANAGEMENT
Subpart A—General
Sec.
1240.1 Scope. [1230.1]
1240.2 Authority. [1230.2]
1240.3 Publication incorporated by reference. [1230.3]
Subpart B—Program Requirements
1240.7 Managing microform records. [1230.7]
Subpart C—Microfilming Standards
1240.10 Disposition of microform and source records. [1230.10]
1240.12 Requirements for filming records. [1230.12]
1240.14 Filming requirements for permanent and unscheduled records. [1230.14]
1240.16 Film and image requirements for temporary records, duplicates, and user copies. [1230.16]
Subpart D—Storage, Use, and Disposition of Microform Records
1240.20 Storage of microform. [1230.20]
1240.22 NARA inspection requirements for permanent and unscheduled microform records. [1230.22]
1240.24 NARA inspection requirements for temporary microform records. [1230.24]
1240.26 Restrictions for permanent and unscheduled microform records. [1230.26]
1240.28 Storing permanent microform records in a records storage facility. [1230.28]
1240.30 Transferring permanent microform records to the legal custody of the National Archives. [1230.30]
Subpart E—Centralized Micrographic Services
1240.40 NARA's micrographic services. [1230.50]
PART 1242—PROGRAM ASSISTANCE

Sec.
1242.1 Scope. [1238.1]
1242.2 Requests for assistance. [1238.2]
PART 1244—INSPECTION AND STUDIES
Subpart A—General

Sec.
1244.10 Authority. [1220.18 and 1220.50]
1244.20 Purpose. [1220.52]
Subpart B—Inspection Program
1244.30 Inspection process. [1220.54]
1244.32 Inspection report. [1220.56]
1244.34 Agency action plans and progress reports. [1220.58]
1244.36 Follow-up notification and reviews. [1220.60]
Subpart C—Studies Program
1244.40 Studies process. [1220.54]
1244.42 Studies report. [1220.56]
1244.44 Agency action plans and progress reports. [1220.58]
1244.46 Follow-up notification and reviews. [1220.60]
PART 1246—NARA RECORDS MANAGEMENT REPORTING

Sec.
1246.10 Authority. [New]
1246.20 Purpose. [New]
1246.30 Reports to Congress. [1220.16]
1246.40 Reports to Director of OMB. [1220.16]

[FR Doc. 04-5625 Filed 3-12-04; 8:45 am]

BILLING CODE 7515-01-P